DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Genomic and Genetic Technologies Trade Mission to Greece, Türkiye, and Italy on May 19-23, 2025. A summary of the mission is found below. Application information and more detailed mission information, including the commercial setting and sector information, can be found at the trade mission website: https://www.trade.gov/trade-missions. For this mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Trade Events Task Force, International Trade Administration, U.S. Department of Commerce, 1401 Constitution Avenue NW, Washington, DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value.

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

The Following Selection Criteria Will Be Used for the Mission

Targeted mission participants are U.S. firms providing or promoting U.S. products and services that have an interest in entering or expanding their business in the mission's destination country. The following criteria will be evaluated in selecting participants:

• Suitability of the applicant's products or services to these markets;

• The applicant's potential for business in the markets, including likelihood of exports resulting from the mission; and

• Consistency of the applicant's goals and objectives with the stated scope of the mission.

Balance of company size and location may also be considered during the review process.

Referrals from a political party or partisan political group or any information, including on the application, containing references to political contributions or other partisan political activities will be excluded from the application and will not be considered during the selection process. The sender will be notified of these exclusions.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

Genomic and Genetic Technologies Trade Mission to Greece, Türkiye, and Italy on May 19-23, 2025

Summary

The United States Department of Commerce, International Trade Administration (ITA), is organizing a Genomic and Genetic Technologies Trade Mission to Greece, Türkiye, and Italy on May 19-23, 2025.

The mission is open to U.S. firms working on genomic and genetic technologies. Examples of participant companies include those engaged in products for Next Generation Sequencing (NGS) R&D and test kit development, Whole Genome Sequencing (WGS), Whole Exome Sequencing (WES), Bioinformatics, Molecular Cytogenetics, Molecular Genetics, Cancer Genetics, Pharmacogenetics, Rare Diseases, Pre-natal Genetic Disorders, and Preimplantation Genetic Testing (PGT) for in Vitro Fertilization.

Participation in the Genomic and Genetic Technologies Trade Mission to Greece, Türkiye and Italy will provide participating U.S. firms with the opportunity to better understand the market for their products, visit leading research institutes and genetics labs, network with key industry people, and identify local partners.

Mission Scenario

The mission fee will include market briefings, B2B meetings, Ministries of Health meetings, site visits (* Subject to confirmation) to research institutes or genetic labs, receptions with industry contacts and hosted luncheons in each market with keynote industry speakers.

Delegation participants will arrive in Athens, Greece on Sunday, May 18, 2025. The mission will officially start on Monday, May 19. The day will include a market briefing on the genomic and genetic technologies market in Greece followed by B2B meetings. The schedule will likely include a B2G meeting with the Ministry of Health. There will be a hosted luncheon with a keynote industry speaker and an evening reception with industry contacts.

On Tuesday, May 20, the delegation will fly to Istanbul, Türkiye. Before a reception with key industry players at the Consul General's Residence, CS Istanbul staff will deliver a market briefing to the participants at the same venue. On Wednesday, May 21, U.S. companies will have B2B meetings with potential business partners, visit an industry site, and attend a hosted luncheon with a keynote industry speaker. Participants will depart Istanbul for Milan, Italy on an evening flight.

On Thursday, May 22, participants will attend a market briefing followed by B2B meetings. In the evening, participants will attend a reception with industry contacts. On Friday, May 23, U.S. firms will participate in a site visit and attend a hosted luncheon with a keynote industry speaker.

Participants interested in attending the European Human Genomics Conference (separate fee), taking place May 24-27, may opt to stay in Milan. Otherwise, participants will depart Milan on Saturday, May 24.

Proposed Timetable
[* Note: The final schedule and potential site visits will depend on the availability of host government and business officials, specific goals of mission participants, and ground transportation.]
Sunday, May 18, 2025 | • Trade Mission Participants in Athens, Greece.
Monday, May 19, 2025 | • Athens, Greece.
| ○ Morning: Market Briefing.
| ○ Morning: B2B Meetings.
| ○ Lunch: Hosted lunch with a keynote industry speaker.
| ○ Afternoon: Visit to Ministry of Health or Greek Industry Institution.
| ○ Evening: Small Reception (maximum 50 participants).
Tuesday, May 20, 2025 | • En route to Istanbul, Türkiye.
| ○ Early morning: Flight to Istanbul, Türkiye.
| ○ Afternoon: Market Briefing.
| ○ Evening: Small Reception (maximum 50 participants).
Wednesday, May 21, 2025 | • Istanbul, Türkiye and En route to Milan, Italy.
| ○ Morning: B2B Meetings.
| ○ Lunch: Hosted lunch with a keynote industry speaker.
| ○ Afternoon: Site visit.
| ○ Evening: Flight to Milan, Italy.
Thursday, May 22, 2025 | • Milan, Italy.
| ○ Morning: Market Briefing.
| ○ Morning: B2B Meetings—Session #1.
| ○ Lunch: Networking Lunch.
| ○ Afternoon: B2B Meetings—Session #2.
| ○ Evening: Small Reception (maximum 50 participants).
Friday, May 23, 2025 | • Milan, Italy.
| ○ Morning: Site visit.
| ○ Lunch: Hosted lunch with a keynote industry speaker.
| ○ End of Trade Mission.
Saturday, May 24, 2025 | • Option #1: Departure from Milan, Italy.
| • Option #2: Participate in the European Human Genomics Conference in Milan, Italy—registration is the responsibility of the U.S. firm.

Participation Requirements

All parties interested in participating in the trade mission must complete and submit an application package for consideration by the DOC. All applicants will be evaluated on their ability to meet certain conditions and best satisfy the selection criteria as outlined below. A minimum of 10 and maximum of 15 firms will be selected to participate in the mission from the applicant pool.

Fees and Expenses

After a firm has been selected to participate on the mission, a payment to the Department of Commerce in the form of a participation fee is required. The participation fee for the Genomic and Genetic Technologies Trade Mission to Greece, Türkiye and Italy will be $4,400 for small or medium-sized enterprises (SME); and $6,500 for large firms. Expenses for travel, lodging, meals, and incidentals will be the responsibility of each mission participant. Interpreter and driving services can be arranged at an additional cost. Delegation members will be able to take advantage of U.S. Embassy rates for hotel rooms.

There will be a $750 fee for each additional firm representative (large firm or SME) that wishes to participate in.

If and when an applicant is selected to participate on a particular mission, a payment to the Department of Commerce in the amount of the designated participation fee above is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public, and applicants previously selected to participate in this mission will need to confirm their availability but need not reapply. Should the decision be made to organize a virtual program, the Department will adjust fees, accordingly, prepare an agenda for virtual activities, and notify the previous selected applicants with the option to opt-in to the new virtual program.

Timeline for Recruitment and Applications

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than January 31, 2025. The U.S. Department of Commerce will review applications and inform applicants of selection decisions on a rolling basis. Applications received after January 31, 2025, will be considered only if space and scheduling constraints permit.

Contacts

Michelle Ouellette (U.S. based Recruitment Lead), Senior International Trade Specialist, Boston U.S. Export Assistance Center, + 1 (617) 565-4302, Michelle.Ouellette@trade.gov

Cindy Ma, Senior International Trade Specialist, U.S. Commercial Service—San Jose, CA, +1 (510) 368-0765, Cindy.Ma@trade.gov

Monica Toporkiewicz, Senior International Trade Specialist, U.S. Commercial Service—Chicago, IL, +1 312-353-8059, Monica.Toporkiewicz@trade.gov

Gemal Brangman,
Director, Global Trade Programs.

[FR Doc. 2024-14931 Filed 7-5-24; 8:45 am]

BILLING CODE 3510-DR-P